DEPARTMENT OF HOMELAND SECURITY

Coast Guard

[Docket No. USCG-2010-1066]

Recreational Boating Safety Projects, Programs and Activities Funded Under Provisions of the Transportation Equity Act for the 21st Century; Accounting of

ACTION: Notice.

SUMMARY: In 1999, the Transportation Equity Act for the 21st Century made $5 million per year available for the payment of Coast Guard expenses for personnel and activities directly related to coordinating and carrying out the national recreational boating safety program. In 2005, the law was amended, and the amount was increased to $5.5 million. The Coast Guard is publishing this notice to satisfy a requirement of the Act that a detailed accounting of the projects, programs, and activities funded under the national recreational boating safety program provision of the Act be published annually in the Federal Register. In this notice, we have specified the funding amounts the Coast Guard has committed, obligated, or expended during fiscal year 2012, as of September 30, 2012.

FOR FURTHER INFORMATION CONTACT: For questions on this notice, call Jeff Ludwig, Regulations Development Manager, telephone 202-372-1061.

SUPPLEMENTARY INFORMATION:

Background and Purpose

The Transportation Equity Act for the 21st Century became law on June 9, 1998 (Pub. L. 105-178; 112 Stat. 107). The Act required that of the $5 million made available to carry out the national recreational boating safety program each year, $2 million shall be available only to ensure compliance with Chapter 43 of title 46, U.S. Code. On September 29, 2005, the Sportfishing and Recreational Boating Safety Amendments Act of 2005 was enacted (Public Law 109-74; 119 Stat. 2031). This Act increased the funds available to the national recreational boating safety program from $5 million to $5.5 million annually, and stated that “not less than” $2 million shall be available only to ensure compliance with Chapter 43 of title 46, U.S. Code.

These funds are available to the Secretary of Homeland Security (Secretary) from the Sport Fish Restoration and Boating Trust Fund established under 26 U.S.C. 9504(a) for payment of Coast Guard expenses for personnel and activities directly related to coordinating and carrying out the national recreational boating safety program. Under 46 U.S.C. 13107(c), no funds available to the Secretary under this subsection may be used to replace funding traditionally provided through general appropriations, nor for any purposes except those purposes authorized; namely, for personnel and activities directly related to coordinating and carrying out the national recreational boating safety program. Amounts made available under 46 U.S.C. 13107(c) remain available during the two succeeding fiscal years. Any amount that is unexpended or unobligated at the end of the 3-year period during which it is available, shall be withdrawn by the Secretary and allocated to the States in addition to any other amounts available for allocation in the fiscal year in which they are withdrawn or the following fiscal year.

Use of these funds requires compliance with standard Federal contracting rules with associated lead and processing times resulting in a lag time between available funds and spending. The total amount of funding transferred to the Coast Guard from the Sport Fish Restoration and Boating Trust Fund and committed, obligated, and/or expended during fiscal year 2012 for each activity is shown below.

Specific Accounting of Funds

Factory Visit Program/Boat Testing Program: Funding was provided to continue the national recreational boat factory visit program, initiated in January 2001. Under the factory visit program, contracted personnel, acting on behalf of the Coast Guard, visited 1,150 recreational boat manufacturers during the 2012 reporting year to either inspect for compliance with Federal regulations, communicate with the manufacturers as to why they need to comply with Federal regulations, or educate them, as necessary, on how to comply with Federal regulations. Funding was also provided for testing of certain associated equipment and in-water testing of atypical and used recreational boats for compliance with capacity and flotation standards. Funding in the amount of $1,984,621 was provided for the Factory Visit Program/Boat Testing Program, with an additional $857 for travel expenses. ($1,985,478).¹

¹ Section 13707(c)(1) of title 46 U.S.C. requires that “* * *not less than $2,000,000 be available to ensure compliance with chapter 43 of title 46 U.S.C.[—Recreational Vessels].” For purposes of satisfying this requirement, we consider $100,000 of funding for “personnel support” and $140,000 for “reimbursable salaries” in addition to the amount of $1,985,478 itemized for Factory Visit Program/Boat Testing Program. We did not include those amounts in the total for Factory Visit Program/Boat Testing Program because the broad categories of “personnel support” and “reimbursable salaries” are accounted for separately below.

New Recreational Boating Safety Associated Travel: Travel by employees of the Boating Safety Division was performed to carry out additional recreational boating safety actions and to gather background and planning information for new recreational boating safety initiatives, in support of the National Recreational Boating Safety Program Strategic Plan. ($23,367).

Boating Accident News Clipping Services: Funding was provided to continue to gather daily news stories of recreational boating accidents nationally for more real time accident information and to identify accidents that may involve regulatory non-compliances or safety defects. ($82,900).

Web-based Document Management System: Funding was provided to continue to provide a web-based document management system to better enable the handling of thousands of recreational boating recall case and campaign reports. ($60,000).

Recreational Boating Safety (RBS) Outreach Program: Funding was allocated for this program, which provides full marketing, media, public information, and program strategy support to the nation-wide RBS effort. The goal is to coordinate the RBS outreach initiatives and campaigns, some of which include: National Boating Under the Influence Campaign (BUI), “Boat Responsibly!”, Life Jacket Wear, Vessel Safety Check Program (VSC), Boating Safety Education Courses, Propeller Strike Avoidance, Carbon Monoxide Poisoning Awareness and Education, and other recreational boating safety issues on an as needed basis. ($845,598).

Boating Accident Report Database (BARD) Web System: Funding was allocated to continue providing the BARD Web System, which enables reporting authorities in the 50 States, five U.S. Territories, and the District of Columbia to submit their accident reports electronically over a secure Internet connection. The system also enables the user community to generate statistical reports that show the frequency, nature, and severity of boating accidents. Fiscal year 2012 funds supported system maintenance, development, and technical (hotline) support. ($372,440).

Personnel Support: Funding was provided for personnel to support the development of new regulations and to conduct boating safety-related research and analysis. ($681,773).

Reimbursable Salaries: Funding was provided to carry out the work as prescribed in 46 U.S.C. 13107(c) and as described herein. The first position was that of a professional mathematician/statistician to conduct necessary national surveys and studies on recreational boating activities as well as to serve as a liaison to other Federal agencies that are conducting boating surveys so that we can pool our resources and reduce costs. The second position was that of an Outreach Coordinator with responsibilities that include overseeing and managing RBS projects related to carbon monoxide poisoning, propeller injury mitigation, and manufacturer compliance initiatives. ($296,000).

Web site Support: Funding for this initiative provides a full range of public media and boating safety information at http://www.uscgboating.org for a worldwide audience. It covers a wide spectrum of boating safety related topics and is dedicated to reducing loss of life, injuries, and property damage that occur on U.S. waterways by improving the knowledge, skills, and abilities of recreational boaters. ($79,658).

Of the $5.5 million made available to the Coast Guard in fiscal year 2012, $2,280,621 has been committed, obligated, or expended and an additional $2,146,591 of prior fiscal year funds have been committed, obligated, or expended, as of September 30, 2012.

Authority

This notice is issued pursuant to 46 U.S.C. 13107(c)(4).

Dated: March 20, 2013.
Paul F. Thomas,
Captain, U.S. Coast Guard, Director of Inspections & Compliance.

[FR Doc. 2013-06986 Filed 3-26-13; 8:45 am]

BILLING CODE 9110-04-P